DEPARTMENT OF AGRICULTURE

Forest Service

Fresno County Resource Advisory Committee

AGENCY: Forest Service, USDA.

ACTION: Notice of meeting.

SUMMARY: The Fresno County Resource Advisory Committee will be meeting in Prather, California, June 29, 2011 and July 27, 2011. The purpose of these meetings will be to receive progress and monitoring reports from previously funded projects and accept and review project proposals for the next funding cycle.

DATES: The meetings will be held from 6 p.m. to 8:30 p.m.

ADDRESSES: The meetings will be held at the High Sierra Ranger District, 29688 Auberry Rd., Prather, CA. Send written comments to Robbin Ekman, Fresno County Resource Advisory Committee Coordinator, c/o Sierra National Forest, High Sierra Ranger District, 29688 Auberry Road, Prather, CA 93651 or electronically to rekman@fs.fed.us.

FOR FURTHER INFORMATION CONTACT: Robbin Ekman, Fresno County Resource Advisory Committee Coordinator, (559) 855-5355 ext. 3341.

SUPPLEMENTARY INFORMATION: The meeting is open to the public. Committee discussion is limited to Forest Service staff and Committee members. However, persons who wish to bring Payments to States Fresno County Title II project matters to the attention of the Committee may file written statements with the Committee staff before or after the meeting.

Agenda items to be covered include: (1) Accept new project proposals and (2) Review progress and monitoring reports from previously funded projects.

Dated: May 9, 2011.
Ray Porter,
District Ranger.

[FR Doc. 2011-12008 Filed 5-16-11; 8:45 am]

BILLING CODE 3410-11-M